DEPARTMENT OF TRANSPORTATION

Federal Motor Carrier Safety Administration

[FMCSA Docket No. FMCSA-2006-25290]

Commercial Driver's License (CDL) Standards; Isuzu Motors America, Inc.'s Exemption Application

AGENCY: Federal Motor Carrier Safety Administration (FMCSA), DOT.

ACTION: Notice of application for exemption from CDL standards; request for comments.

SUMMARY: FMCSA announces that Isuzu Motors America, Inc. (Isuzu) has applied for an exemption for 76 of its commercial motor vehicle (CMV) drivers to enable them to test-drive Isuzu CMVs in the United States without a U.S. CDL. The Isuzu CMVs are prototypes which require testing under U.S. climatic conditions prior to being placed on the U.S. market. Each of these drivers holds a CDL issued in Japan, but lack the U.S. residency necessary to obtain a CDL in the United States. Isuzu asks that they be exempt from the Federal requirement that drivers of such CMVs hold a CDL issued by one of the States of the United States.

DATES: Comments must be received on or before August 24, 2006.

ADDRESSES: You may submit comments to the DOT Docket Management System (DMS), referencing Docket Number FMCSA-2006-25290, using any of the following methods:

• Web site: http://dmses.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket numbers for this notice. Note that all comments received will be posted without change to http://dms.dot.gov, including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want us to notify you that we received your comments, please include a self-addressed, stamped envelope or postcard or print the acknowledgment page that appears after submitting comments on-line.

Privacy Act: Anyone may search the electronic form of all comments received into any of our dockets by the name of the individual submitting the comment (or of the person signing the comment, if submitted on behalf of an association, business, labor union, etc.). You may review the Department of Transportation's complete Privacy Act Statement in the Federal Register published on April 11, 2000 (65 FR 19477; Apr. 11, 2000). This information is also available at http://dms.dot.gov.

FOR FURTHER INFORMATION CONTACT: Mr. Thomas Yager, Chief, Driver and Carrier Operations Division, Office of Bus and Truck Standards and Operations, MC-PSD, Federal Motor Carrier Safety Administration, 400 Seventh Street, SW., Washington, DC 20590-0001. Telephone: 202-366-4009. E-mail: MCPSD@dot.gov.

SUPPLEMENTARY INFORMATION:

Background

Section 4007 of the Transportation Equity Act for the 21st Century (Pub. L. 105-178, June 9, 1998, 112 Stat. 107) amended 49 U.S.C. 31315 and 31136(e) to provide authority to grant exemptions from the motor carrier safety regulations. On August 20, 2004, FMCSA published a final rule (69 FR 51589) on section 4007. Under the regulations, FMCSA must publish a notice of each exemption request in the Federal Register (49 CFR 381.315(a)). FMCSA must provide the public with an opportunity to inspect the information relevant to the application, including any safety analyses that have been conducted, and it must provide an opportunity for public comment on the request.

FMCSA reviews the safety analyses and the public comments and determines whether granting the exemption would achieve a level of safety equivalent to or greater than the level that would be achieved by the current regulation (49 CFR 381.305). FMCSA's decision must be published in the Federal Register (49 CFR 381.315(b)). If FMCSA denies the request, it must state the reason for doing so. If FMCSA grants the exemption, the notice must specify the person or class of persons receiving the exemption and the regulatory provision or provisions from which exemption is being granted. The notice must also specify the effective period of the exemption (up to 2 years) and explain the terms and conditions of the exemption. The exemption may be renewed (49 CFR 381.300(b)).

Application for Exemption

Isuzu has applied for an exemption from the FMCSR provision requiring that drivers of certain CMVs in interstate or intrastate commerce obtain a CDL from a State (49 CFR 383.23). Isuzu requests the exemption because its drivers are residents of Japan and therefore are ineligible to obtain a CDL from a State. The Isuzu CMVs are prototypes which require testing under U.S. climatic conditions prior to being placed on the U.S. market. It is expected that each driver would operate CMVs about 5,000 miles per year. A copy of Isuzu's application is in Docket No. FMCSA-2006-25290.

Japanese Drivers Included in Application

The exemption would enable the following 76 drivers to operate CMVs that will be manufactured, assembled, sold or primarily used in the United States: Aihara Hirokazu, Akira Iiduka, Akira Yoshino, Atsushi Hirotsu, Atsushi Yamazaki, Chito Agatsuma, Fuki Yokoyama, Fumiaki Kubo, Fumiaki Takei, Fuyuki Hamanaka, Go Shinozuka, Hideki Shibata, Hiroaki Kurata, Hiroaki Takahashi, Hiromasa Narita, Hiroshi Osada, Hiroyoshi Morohoshi, Hisashi Hashiguchi, Ichirou Watanabe, Jirou Arai, Junichi Yamada, Jyunichi Suda, Kakuya Sekimoto, Kazuhiro Itou, Kazuhiro Teraguchi, Kazuyoshi Tateishi, Ken Ueda, Kenji Takashima, Kiyoaki Nokura, Kiyoshi Toshima, Kohki Natsumi, Manabu Andou, Masaaki Toriyama, Masahiko Gotou, Masahito Katou, Masayuki Tanaka, Minoru Endou, Misturu Denpouy, Mitsugu Sugiura, Motoyuki Kamo, Naoki Morimoto, Naomi Uchida, Naoyuki Itou, Noboru Azuma, Nobuhisa Okuda, Nobuyuki Iwao, Ryo Sato, Ryouji Matsuzawa, Satoshi Yatomi, Shigeo Shimada, Shinya Ishida, Syouji Takahashi, Tadao Shibuya, Tadashi Shoda, Takahiro Maemoto, Takashi Oguma, Takatomo Omukai, Takauki Asaoka, Takayuki Kaneda, Takeshi Kamei, Tatsumi Wakamori, Tatsuya Kawase, Tatsuya Sakata, Tetsuji Oshima, Tetuya Hiromatsu, Toshiaki Shimizu, Toshihiko Sudo, Tsuchida Minoru, Tsugio Fujita, Yasuhiro Sakai, Yasuo Tamamoto, Yasuyuki Fujita, Yoshiaki Miyamoto, Yoshinori Kunieda, Yoshinori Ugai and Youcihi Kurita.

Isuzu presents evidence of the comprehensive driver training and testing which precedes issuance of a Japanese CDL. Isuzu also provides evidence of the background of each of the 76 drivers. They are automotive engineers and technicians, and each holds a valid Japanese CDL. They are experienced CMV operators, and Isuzu states in its application that none of these drivers has been cited for a traffic violation or has been involved in a traffic accident during the two years prior to the application.

Request for Comments

In accordance with 49 U.S.C. 31315(b)(4) and 31136(e), FMCSA requests public comment from all interested persons, including those with specific data concerning the safety records of the drivers listed in this notice, on Isuzu's application for an exemption from the CDL requirements of 49 CFR 383.23. The Agency requests that comments be submitted by the close of business on August 24, 2006. Comments will be available for examination in the docket. FMCSA will review all comments received by this date, and will determine whether the exemption is consistent with requirements of 49 U.S.C. 31315(b)(4) and 31136(e). Comments received after the closing date will be filed in the public docket and will be considered to the extent practicable, but FMCSA may make a final decision at any time after the close of the comment period.

Authority: 49 U.S.C. 31136 and 31315; and 49 CFR 1.73.

Issued on: July 19, 2006.
David H. Hugel,
Acting Administrator.

[FR Doc. E6-11766 Filed 7-24-06; 8:45 am]

BILLING CODE 4910-EX-P